DEPARTMENT OF DEFENSE

GENERAL SERVICES ADMINISTRATION

NATIONAL AERONAUTICS AND SPACE ADMINISTRATION

[OMB Control No. 9000-0108]

Federal Acquisition Regulation; Submission for OMB Review; Bankruptcy

AGENCIES: Department of Defense (DOD), General Services Administration (GSA), and National Aeronautics and Space Administration (NASA).

ACTION: Notice of request for an extension to an existing OMB clearance.

SUMMARY: Under the provisions of the Paperwork Reduction Act of 1995 (44 U.S.C. Chapter 35), the Federal Acquisition Regulation (FAR) Secretariat has submitted to the Office of Management and Budget (OMB) a request to review and approve an extension of a currently approved information collection requirement concerning bankruptcy. A request for public comments was published at 67 FR 6236, February 11, 2002. No comments were received.

DATES: Submit comments on or before May 22, 2002.

ADDRESSES: Submit comments regarding this burden estimate or any other aspect of this collection of information, including suggestions for reducing this burden to: FAR Desk Officer, OMB, Room 10102, NEOB, Washington, DC 20503, and a copy to the General Services Administration, FAR Secretariat (MVP), 1800 F Street, NW., Room 4035, Washington, DC 20405. Please cite OMB Control No. 9000-0108, Bankruptcy, in all correspondence.

FOR FURTHER INFORMATION CONTACT: Linda Klein, Acquisition Policy Division, GSA (202) 501-3775.

SUPPLEMENTARY INFORMATION:

A. Purpose

Under statute, contractors may enter into bankruptcy which may have a significant impact on the contractor's ability to perform its Government contract. The Government often does not receive adequate and timely notice of this event. The clause at 52.242-13 requires contractors to notify the contracting officer within five days after the contractor enters into bankruptcy.

B. Annual Reporting Burden

Respondents: 1,000.

Responses Per Respondent: 1.

Annual Responses: 1,000.

Hours Per Response: 1.

Total Burden Hours: 1,000.

C. Annual Recordkeeping Burden

Recordkeepers: 1,000.

Hours Per Recordkeeper: .25.

Total Recordkeeping Burden Hours: 250.

Obtaining Copies of Proposals

Requesters may obtain a copy of the information collection documents from the General Services Administration, FAR Secretariat (MVP), Room 4035, 1800 F Street, NW, Washington, DC 20405, telephone (202) 501-4755. Please cite OMB Control No. 9000-0108, Bankruptcy, in all correspondence.

Dated: April 16, 2002.
Al Matera,
Director, Acquisition Policy Division.

[FR Doc. 02-9721 Filed 4-19-02; 8:45 am]

BILLING CODE 6820-EP-P